DEPARTMENT OF HEALTH AND HUMAN SERVICES

Centers for Disease Control and Prevention

Extension of the Application Deadline: The REACH Lark Galloway-Gilliam Award for Advancing Health Equity Challenge (REACH Lark Award Challenge)

AGENCY: Centers for Disease Control and Prevention (CDC), Department of Health and Human Services (HHS).

ACTION: Notice.

SUMMARY: On April 25, 2024, the Centers for Disease Control and Prevention (CDC), located within the Department of Health and Human Services (HHS), published in the Federal Register a notice announcing the 2024 Racial and Ethnic Approaches to Community Health (REACH) Lark Galloway-Gilliam for Advancing Health Equity Award Challenge (REACH Lark Award Challenge). The CDC established a deadline date of June 21, 2024, for the transmittal of applications. This notice extends the deadline date for applications through July 12, 2024.

DATES: The Challenge will accept applications through July 12, 2024.

FOR FURTHER INFORMATION CONTACT: Stormie Israel, National Center for Chronic Disease Prevention and Health Promotion, Centers for Disease Control and Prevention, 4770 Buford Hwy. NE, Mailstop S107-5, Atlanta, GA 30341, Telephone: 770-488-2964, Email: dnpaopolicy@cdc.gov.

SUPPLEMENTARY INFORMATION:

Award Approving Official: Mandy K. Cohen, MD, MPH, Director, Centers for Disease Control and Prevention, and Administrator, Agency for Toxic Substances and Disease Registry.

On April 25, 2024, CDC published a Federal Register Notice (89 FR 31751) announcing the 2024 REACH Lark Award Challenge. The CDC established a deadline date of June 21, 2024, for the transmittal of applications. This notice extends the deadline date for transmittal of applications until July 12, 2024. CDC is extending the deadline to allow additional time for interested applicants to participate.

This biennial challenge was established in 2019 to recognize extraordinary individuals, organizations, or community coalitions associated with the REACH program whose work has contributed to the implementation of culturally tailored interventions that advance health equity, reduce health disparities, and increase community engagement to address preventable risk behaviors (e.g., tobacco use, poor nutrition, and physical inactivity).

To participate and submit an application, interested parties should go to https://www.challenge.gov. All information for this competition remains the same, except for the deadline for the transmittal of applications.

General Conditions

CDC reserves the right to cancel, suspend, and/or modify the Challenge, or any part of it, for any reason, at CDC's sole discretion.

Participation in this Challenge constitutes an applicants' full and unconditional agreement to abide by the Challenge's Official Rules found at https://www.Challenge.gov.

Authority: 15 U.S.C. 3719.

Noah Aleshire,
Chief Regulatory Officer, Centers for Disease Control and Prevention.

[FR Doc. 2024-14727 Filed 7-3-24; 8:45 am]

BILLING CODE 4163-18-P